DEPARTMENT OF AGRICULTURE

Office of the Secretary

Notice of Solicitation of Members to the National Genetic Research Advisory Council

AGENCY: Research, Education, and Economics, USDA.

ACTION: Solicitation of members.

SUMMARY: In accordance with the Food, Agriculture, Conservation, and Trade Act of 1990 (7 U.S.C.A. 5843), the United States Department of Agriculture announces the solicitation for nominations to fill five vacancies on the National Genetic Resources Advisory Council (NGRAC), a subcommittee of the National Agricultural Research, Extension, Education, and Economics (NAREEE) Advisory Board.

DATES: The deadline for nominations is August 28, 2015.

ADDRESSES: The nominee's name, resume, completed Form AD-755, and any letters of nomination or support must be submitted via one of the following methods:

(1) Email to nareee@ars.usda.gov; or

(2) By mail delivery service to REE Advisory Board Office, U.S. Department of Agriculture, 1400 Independence Avenue SW., Room 332A, Jamie L. Whitten Building, Washington, DC 20250.

FOR FURTHER INFORMATION CONTACT: Michele Esch, Executive Director, REE Advisory Board Office, U.S. Department of Agriculture, 1400 Independence Avenue SW., Jamie L. Whitten Building, Room 332A, Washington, DC 20250-0321; telephone: 202-720-3684; fax: 202-720-6199; or email: Michele.esch@ars.usda.gov. Information specific to the NGRAC can be found at http://www.ars-grin.gov/ngrac/. General information regarding the NAREEE Advisory Board can be found at http://nareeeab.ree.usda.gov/.

SUPPLEMENTARY INFORMATION:

Background: The NGRAC was established in March 1992 under Section 1634 of the Food, Agriculture, Conservation, and Trade Act of 1990 (P.L. 101-624). The NGRAC was re-established in 2012 as a permanent subcommittee of the NAREEE Advisory Board to formulate recommendations on actions and policies for the collection, maintenance, and utilization of genetic resources; to make recommendations for coordination of genetic resources plans of several domestic and international organizations; and to advise the Secretary of Agriculture and the National Genetic Resources Program (NGRP) Director of new and innovative approaches to genetic resources conservation.

Request for Nominations: The terms of 5 members of the NGRAC will expire on September 30, 2015. NGRAC is required to have two-thirds of the appointed members from scientific disciplines relevant to the NGRP including agricultural sciences, environmental sciences, natural resource sciences, health sciences, and nutritional sciences; and one-third of the appointed members from the general public including leaders in fields of public policy, trade, international development, law, or management. The 5 positions being filled are to be composed of 3 scientific members and 2 general public members. Nominations are for a 2-year appointment, effective October 1, 2015. All nominees will be carefully reviewed for their expertise, leadership, and relevance.

How to Submit Nominations: Any interested person or organization may nominate qualified individuals for appointment to the NGRAC. Individuals may also self-nominate. Nominations can be submitted electronically or by mail (see ADDRESSES section above). Each nominee must submit a nomination letter addressed to the Secretary of Agriculture, form AD-755 “Advisory Committee Background Information,” and their resume or Curriculum Vitae. Nomination letters should indicate whether the applicant is applying as a scientific member or a general public member. The application form and more information about advisory committees can be found at www.usda.gov/advisory_committees.xml. All nominees will be vetted before selection.

Nominations are open to all individuals without regard to race, color, religion, sex, national origin, age, mental or physical handicap, marital status, or sexual orientation. To ensure the recommendations of the Advisory Board take into account the needs of the diverse groups served by the Department, membership shall include, to the extent practicable, individuals with demonstrated ability to represent all racial and ethnic groups, geographical areas, women and men, and persons with disabilities. Federally registered lobbyists may not serve on an advisory board or committee in an individual capacity. Members cannot serve on more than one USDA Federal Advisory Committee simultaneously.

Appointments to the National Genetic Research Advisory Council will be made by the Secretary of Agriculture.

Done at Washington, DC, this 4th day of August 2015.
Ann Bartuska,
Deputy Under Secretary, Research, Education, and Economics.

[FR Doc. 2015-19573 Filed 8-7-15; 8:45 am]

BILLING CODE 3410-03-P